DEPARTMENT OF COMMERCE

International Trade Administration

[A-552-801]

Certain Frozen Fish Fillets From the Socialist Republic of Vietnam: Amended Rescission of Antidumping Duty New Shipper Review

AGENCY: Enforcement and Compliance, International Trade Administration, Department of Commerce.

SUMMARY: To correct a ministerial error, the Department of Commerce (“the Department”) is amending the rescission of the new shipper review (“NSR”) of the antidumping duty order on certain frozen fish fillets (“fish fillets”) from the Socialist Republic of Vietnam (“Vietnam”) concerning Thanh Hung Co., Ltd. D/B/A Thanh Hung Frozen Seafood Processing Import Export Co., Ltd. (“Thanh Hung”).¹ The period of review (“POR”) is August 1, 2012, through July 31, 2013.

¹ See Certain Frozen Fish Fillets From the Socialist Republic of Vietnam: Rescission of Antidumping New Shipper Review, 79 FR 71748 (December 3, 2014) (“Final Rescission”).

DATES: Effective Date: January 5, 2015.

FOR FURTHER INFORMATION CONTACT: Susan Pulongbarit, AD/CVD Operations, Office V, Enforcement and Compliance, International Trade Administration, U.S. Department of Commerce, 14th Street and Constitution Avenue NW., Washington, DC 20230; telephone: (202) 482-4031.

SUPPLEMENTARY INFORMATION:

Background

On December 3, 2014, the Department published the Final Rescission of this NSR. After reviewing the Final Rescission, the Department independently determined that it made a ministerial error, as described below.

Scope of the Order

The product covered by the order is frozen fish fillets, including regular, shank, and strip fillets and portions thereof, whether or not breaded or marinated, of the species Pangasius Bocourti, Pangasius Hypophthalmus (also known as Pangasius Pangasius) and Pangasius Micronemus. These products are classifiable under tariff article codes 0304.29.6033, 0304.62.0020, 0305.59.0000, 0305.59.4000, 1604.19.2000, 1604.19.2100, 1604.19.3000, 1604.19.3100, 1604.19.4000, 1604.19.4100, 1604.19.5000, 1604.19.5100, 1604.19.6100 and 1604.19.8100 (Frozen Fish Fillets of the species Pangasius including basa and tra) of the Harmonized Tariff Schedule of the United States (“HTSUS”).² Although the HTSUS subheading is provided for convenience and customs purposes, our written description of the scope of the order is dispositive.

² Until July 1, 2004, these products were classifiable under HTSUS 0304.20.6030 (Frozen Catfish Fillets), 0304.20.6096 (Frozen Fish Fillets, NESOI), 0304.20.6043 (Frozen Freshwater Fish Fillets) and 0304.20.6057 (Frozen Sole Fillets). Until February 1, 2007, these products were classifiable under HTSUS 0304.20.6033 (Frozen Fish Fillets of the species Pangasius, including basa and tra). On March 2, 2011, the Department added two HTSUS numbers at the request of U.S. Customs and Border Protection (“CBP”): 1604.19.2000 and 1604 19.3000. On January 30, 2012, the Department added eight HTSUS numbers at the request of CBP: 0304.62.0020, 0305.59.0000, 1604.19.2100, 1604.19.3100, 1604.19.4100, 1604.19.5100, 1604.19.6100 and 1604.19.8100.

For a full description of the scope, see “New Shipper Review of Certain Frozen Fish Fillets from the Socialist Republic of Vietnam: Ministerial Error Memorandum,” dated concurrently with and hereby adopted by this notice (“Ministerial Error Memo”).

Ministerial Errors

Section 751(h) of the Tariff Act of 1930, as amended (“the Act”), and 19 CFR 351.224(f) define a “ministerial error” as an error “in addition, subtraction, or other arithmetic function, clerical error resulting from inaccurate copying, duplication, or the like, and any similar type of unintentional error which the Secretary considers ministerial.” After reviewing the Final Rescission, the Department has determined that it incorrectly stated that the Vietnam-wide rate is 2.39 U.S. dollars per kilogram (“kg”). The correct Vietnam-wide rate is 2.11 U.S. dollars per kg.³ For a detailed discussion of this ministerial error, as well as the Department's analysis, see the Ministerial Error Memo.

³ See Certain Frozen Fish Fillets From the Socialist Republic of Vietnam: Amended Final Results of Antidumping Duty Administrative Review; 2011-2012, 79 FR 37714, 37715 (July 2, 2014).

In accordance with section 751(h) of the Act and 19 CFR 351.224(e), we are amending the Final Rescission of the new shipper review of fish fillets from Vietnam. The revised cash deposit dumping rate is detailed below.

Amended Cash Deposit Rate for the New Shipper Review

The following amended cash deposit requirements apply for all shipments of subject merchandise from Thanh Hung entered or withdrawn from warehouse: (1) For subject merchandise produced and exported by Thanh Hung, the cash deposit rate will be the Vietnam-wide rate (i.e., 2.11 U.S. dollars per kg); (2) for subject merchandise exported by Thanh Hung but not manufactured by Thanh Hung, the cash deposit rate will continue to be the Vietnam-wide rate (i.e., 2.11 U.S. dollars per kg); and (3) for subject merchandise manufactured by Thanh Hung, but exported by any other party, the cash deposit rate will be the rate applicable to the exporter. These cash deposit requirements shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Administrative Protective Order

This notice also serves as a reminder to parties subject to Administrative Protective Order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

These amended final results are published in accordance with sections 751(h) and 777(i)(1) of the Act.

Dated: December 29, 2014.
Paul Piquado,
Assistant Secretary for Enforcement and Compliance.

[FR Doc. 2014-30842 Filed 1-2-15; 8:45 am]

BILLING CODE 3510-DS-P